DEPARTMENT OF ENERGY

Federal Energy Regulatory Commission

[FERC Docket Nos. CP01-22-000 and No. CP01-23-000; CSLC EIR No. 703, BLM Reference No. CACA-42662]

North Baja Pipeline, LLC; Notice of Intent/Preparation To Prepare a Joint Environmental Impact Statement/Report for the Proposed North Baja Pipeline Project, Request for Comments on Environmental Issues, and Notice of Public Scoping Meetings and Site Visit

December 12, 2000.

The staffs of the Federal Energy Regulatory commission (FERC or Commission) and the California State Lands Commission (CSLC) will jointly prepare an environmental impact statement/report (EIS/EIR) that will discuss the environmental impacts of North Baja Pipeline, LLC's (NBP) proposed North Baja Pipeline Project in La Paz County, Arizona, and Riverside and Imperial Counties, California.¹ The North Baja Pipeline Project would involve the construction and operation of about 79.8 miles of 36- and 30-inch-diameter pipeline and a new 18,810-horsepower (hp) compressor station. The FERC will use this EIS/EIR in its decision-making process to determine whether the project is in the public convenience and necessity. The CSLC will use the document to consider NBP's application for leasing the State's Sovereign and School Lands for the pipeline.

¹ NBP's applications in Docket Nos. CP01-22-000 and CP01-23-000 were filed with the FERC under sections 7(c) and 3 of the Natural Gas Act, respectively.

The FERC will be the lead Federal agency in the preparation of this EIS/EIR while the CSLC will be the State Lead Agency for California. The joint document, which will avoid much duplication of environmental analyses, will satisfy the requirements of both the National Environmental Policy Act (NEPA) and the California Environmental Quality Act (CEQA).

If you are a landowner receiving this notice, you may be contacted by a NBP representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need To Know?” should have been attached to the project notice NBP provided to landowners. This fact sheet addresses a number of typically asked questions, including the use of eminent domain and how to participate in the Commission's proceedings. It is available for viewing on the FERC Internet website www.ferc.fed.us).

This notice is being sent to affected landowners along NBP's proposed and alternative routes; Federal, state, and local government agencies; elected officials; environmental and public interest groups; Indian tribes that might attach religious and cultural significance to historic properties in the area of potential effect; local libraries, newspapers, and television stations; commentors on the FERC Notice of Application; and the commission's list of parties to the proceeding. Government representatives are encouraged to notify their constituents of this proposed action and encourage them to comment on their areas of concern. Additionally, with this notice we ² are asking other Federal, state, local, and tribal agencies with jurisdiction and/or special expertise with respect to environmental issues to cooperate with us in the preparation of the EIS/EIR. These agencies may choose to participate once they have evaluated NBP's proposal relative to their responsibilities. Agencies who would like to request cooperating status should follow the instructions for filing comments described later in this notice.

² “We,” “us,” and “our” refer to the staffs of the FERC's Office of Energy Projects and the CSLC.

Because of the federally-managed land that the proposal would affect, NBP has filed a right-of-way application with the El Centro Field Office of the Bureau of Land Management (BLM). As part of considering NBP's application, the BLM has agreed to meet its NEPA responsibilities by participating as a cooperating agency in the preparation of this EIS/EIR. Also, the BLM will consider a plan amendment which may be necessary for pipeline construction outside of the designated utility corridors as described in the California Desert Conservation Area Plan, 1980 (as amended).

Summary of the Proposed Project

NBP's proposed action consists of the construction and operation of:

• About 79.8 miles of 36-inch-diameter (11.5 miles) and 30-inch-diameter (68.3 miles) natural gas pipeline (North Baja Pipeline) extending from an interconnection with El Paso Natural Gas Company (El Paso) in La Paz County, Arizona, through Riverside and Imperial Counties, California, to an interconnection at the international border between the United States and Mexico;

• A new compressor station (Ehrenburg Compressor Station) consisting of three 6,270-hp, gas-fired centrifugal compressor units (with one additional 6,270-hp spare unit) at the El Paso interconnect in La Paz County, Arizona;

• Two meter stations, one at the interconnect with El Paso at the Ehrenberg Compressor Station site (Ehrenberg Meter Station) and one in Imperial County, California near the interconnect at the international border (Ogilby Meter Station); and

• A pig launcher facility at the Ehrenberg Compressor Station site; a pig receiver facility at the Ogilby Meter Station site; and a separate pig launcher/receiver facility (Rannells Trap) in Riverside County, California.

The general location of the major project facilities is shown in appendix 1.³

³ The appendices referenced in this notice are not being printed in the Federal Register. Copies are available on the Commission's website at the “RIMS” link or from the Commission's Public Reference and Files Maintenance Branch, 888 First Street, N.E., Room 2A, Washington, DC 20426, or call (202) 208-1371. For instructions on connecting to RIMS, refer to the page 10 of this notice. Copies of the appendices were sent to all those receiving this notice in the mail.

In addition, NPB requests in Docket No. CP01-23-000 a Presidential Permit to site, construct, operate, and maintain pipeline facilities at the international border between the U.S. and Mexico.

The proposed facilities would be used to transport 500 million cubic feet per day of natural gas from the proposed interconnect with the existing El Paso pipeline to the U.S./Mexico border where it would interconnect with a new pipeline, Gasoducto Bajanorte, to be constructed by Sempra Energy Mexico (Sempra). The natural gas would then be transported westward on the Gasoducto Bajanorte pipeline to an interconnection with the existing Transportadora de Gas Natural de Baja California (TGN) pipeline in Baja California, Mexico. The TGN pipeline extends from Rosarita, Mexico to an interconnection with San Diego Gas and Electric Company pipeline facilities at the San Diego/Tijuana border. The natural gas transported on these pipelines would supply existing and planned power plants in Mexico that would serve electric power demand in northern Baja California, Mexico, and western U.S. markets.

The North Baja Pipeline Project is scheduled to be in service in September 2002. Construction is scheduled to take place between April and September 2002, although construction may occur outside this time period. The approximate duration of construction is 6 months for the compressor station and 4 months for the pipeline.

Land Requirements for Construction

Construction of NBP's proposed facilities would affect a total of about 942.2 acres of land. Following construction, about 457.3 acres would be retained as permanent right-of-way. The remaining 484.9 acres of temporary work space would be restored and allowed to revert to former use.

The nominal construction right-of-way for pipeline would be 80 feet wide, with 50 feet retained as permanent right-of-way. However, where the pipeline is proposed for construction within 18th Avenue on the southern outskirts of Blythe, California (about 7.6 miles), the nominal construction right-of-way would be about 60 feet, with 5 feet retained as permanent right-of-way. About 63 percent of the pipeline route would abut or overlap existing road or powerline rights-of-way. Additionally, a total of about 70 percent of the land affected by construction and operation of the North Baja Pipeline Project would be on public lands managed by the BLM (59 percent), the CSLC (1 percent), or California counties (10 percent).

The Ehrenberg Compressor Station, Ehrenberg Meter Station, and a pig launcher would be constructed on 12.4 acres of land within an approximate 80-acre site has been acquired by NBP. The Rannells Trap pig launcher/receiver facility would be constructed on a 0.7-acre site that would be leased/acquired from a private landowner. The Ogilby Meter Station and a pig receiver would be constructed on a 0.9-acre site that would be leased from the BLM. Mainline valves would be installed within each of these aboveground facilities and another four mainline valves would be spaced as required within the permanent pipeline right-of-way along the pipeline route.

The EIS/EIR Process

NEPA requires the Commission to take into account the environmental impacts that could result from an action whenever it considers the issuance of a Certificate of Public Convenience and Necessity. The CSLC, as State Lead Agency for California, is required to consider the same potential impacts within the State of California under CEQA. The EIS/EIR we are preparing will give both the FERC and the CSLC the information we need to do that.

NEPA and CEQA also require us to discover and address concerns the public may have about proposals. We call this “scoping.” The main goal of the scoping process is to focus the analysis in the EIS/EIR on the important environmental issues. By this notice, we are requesting public comments on the scope of the issues to be analyzed and presented in the EIS/EIR. All comments received are considered during the preparation of the EIS/EIR.

Our independent analysis of the issues will result in the publication of a Draft EIS/EIR. The Draft EIS/EIR will be mailed to Federal, state, and local government agencies; elected officials; environmental and public interest groups; Indian tribes; affected landowners; local libraries, newspapers, and television stations; other interested parties; and the Commission's official service list for this proceeding. We will consider all comments on the Draft EIS/EIR and revise the document, as necessary, before issuing a Final EIS/EIR. The Final EIS/EIR will include our response to all comments received.

Currently Identified Environmental Issues

The EIS/EIR will discuss impacts that could occur as a result of the construction and operation of the proposed project. We have already identified a number of issues that we think deserve attention based on a preliminary review of the proposed facilities and the environmental information provided by NBP. This preliminary list of issues may be changed based on your comments and our analysis.

• Geology and Soils:

— Assessment of potential geologic hazards.

— Effect on prime farmland soils.

— Desert construction, erosion control, and restoration.

• Water Resources and Wetlands:

— Directional drill of the Colorado River and All American Canal.

— Dry crossings of irrigation canals and drains in the Palo Verde Irrigation District.

— Open-cut crossings of 579 dry washes.

— Effect on 2.5 acres of wetlands.

• Vegetation and Wildlife:

— Effect on 573.2 acres of Sonoran creosote bush scrub.

— Effect on 96.9 acres of desert wash woodland.

• Endangered and Threatened Species:

— Potential effect on 9 federally listed species (including the desert tortoise).

— Potential effect on 31 state-listed species.

• Cultural Resources:

— Effect on historic and prehistoric sites.

— Native American and tribal concerns.

• Land Use, Recreation, and Visual Resources:

— Temporary effect on 13.8 acres of agricultural land.

— Permanent conversion of 13.1 acres of land from agricultural to industrial use.

— Temporary disturbance to residents who use 18th Avenue as access to their homes and businesses.

— Effect on about 56 miles of public land.

— Amendment to the California Desert Conservation Area Plan.

— Visual impacts.

• Socioeconomics:

— Potential effects on transportation and traffic.

— Effects of construction workforce demands on public services and temporary housing.

• Air Quality and Noise:

— Effects on local air quality and noise environment from construction and operation of the Ehrenberg Compressor Station.

• Reliability and Safety:

— Assessment of hazards associated with natural gas pipelines.

• Alternatives:

— Assessment or alternative routes and existing systems to reduce or avoid environmental impacts.

— Route alternatives in the Blythe and Cibola areas.

— Deviations from California Desert Conservation Area Desert Plan designated Utility Corridor J.

• Cumulative Impact:

— Assessment of the effect of the proposed project when combined with other projects that have been or may be proposed in the same region and similar time frame.

Public Participation

You can make a difference by providing us with your specific comments or concerns about the project. By becoming a commentor, your concerns will be addressed in the EIS/EIR and considered by the Commission and the CSLC. You should focus on the potential environmental effects of the proposal, alternatives to the proposal (including alternative locations and routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426;

• Reference Docket No. CP01-22-000;

• Label one copy of your comments for the attention of the Gas Group 1, PJ-11.1;

• Send an additional copy of your letter to the following individual: Goodyear K. Walker, California State Lands Commission, 100 Howe Ave., Suite 100 South, Sacramento, CA 95825.

• Mail your comments so that they will be received in Washington, DC on or before February 5, 2001.

Comments may also be filed electronically via the internet in lieu of paper. See 18 CFR 385.2001(a)(1)(iii) and the instructions on the Commission's website at http://www.ferc.fed.us/efi/doorbell.htm under the link to the User's Guide. Before you can file comments you will need to create an account by clicking on “Login to File” and then “New User Account.”

Everyone who responds to this notice or comments throughout the EIS/EIR process will be retained on our mailing list. If you do not want to send comments at this time but still want to keep informed and receive copies of the Draft and Final EIS/EIR, please return the Information Request (appendix 3). You must send comments or return the Information Request for your name to remain on the mailing list.

Public Scoping Meetings and Site Visit

In addition to or in lieu of sending written comments, we invite you to attend the public scoping meetings that the FERC, CSLC, and BLM will conduct in the project area. The locations and times for these meetings are listed below.

Wednesday, January 10, 2001, 7:00 p.m.: Vacation Inn, 2000 Cottonwood Circle, El Centro, California 92243, (760) 352-9523

Thursday, January 11, 2001, 7:00 p.m.: Blythe City Council Chamber, 235 North Broadway, Blythe, California 92225, (760) 922- 6161

The public scoping meetings are designed to provide you with more detailed information and another opportunity to offer your comments on the proposed project NBP representatives will be present at the scoping meetings to describe their proposal. Interested groups and individuals are encouraged to attend the meetings and to present comments on the environmental issues they believe should be addressed in the EIS/EIR. A transcript of each meeting will be made so that your comments will be accurately recorded.

On January 10 and 11, 2001, we will also be conducting a site visit to the project area. This will be an on-the-ground inspection, conducted by automobile on public roads, or where access to private property has been granted (specific locations to be determined later). Anyone interested in participating in the site visit may contact the Commission's Office of External Affairs identified at the end of this notice for more details and must provide their own transportation.

Becoming an Intervenor

In addition to involvement in the EIS/EIR scoping process, you may want to become an official party to the proceeding, known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would be adequately represented by any other parties. You do not need intervenor status to have your environmental comments considered.

Availability of Additional Information

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2474.

Information concerning the involvement of the CSLC in the EIS/EIR process may be obtained from Kirk Walker, EIR Project Manager, at (916) 574-1893, or on the California State Lands website at http://www/slc.ca.gov.

David P. Boergers,
Secretary.

[FR Doc. 00-32083 Filed 12-15-00; 8:45 am]

BILLING CODE 6717-01-M